DEPARTMENT OF THE INTERIOR

Bureau of Land Management

[LLES962000 L14400000 BJ0000 18X]

Notice of Filing of Plat Survey; Eastern States

AGENCY: Bureau of Land Management, Interior.

ACTION: Notice of official filing.

SUMMARY: The plats of survey described below are scheduled to be officially filed in the Bureau of Land Management (BLM) Eastern States Office, Washington, DC, 30 days from the date of this publication. The survey, at the request of the United States Forest Service, is necessary for the management of these lands.

DATES: Unless there are protests of this action, the filing of the plat described in this notice will happen on February 15, 2018.

ADDRESSES: Written notices protesting this survey must be sent to the State Director, BLM Eastern States, 20 M Street SE, Suite 950, Washington, DC 20003.

FOR FURTHER INFORMATION CONTACT: Dominica Van Koten, Chief Cadastral Surveyor for Eastern States; (202) 912-7756; email: dvankote@blm.gov; or U.S. Postal Service: BLM-ES, 20 M Street SE, Suite 950, Washington, DC 20003. Attn: Cadastral Survey. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The plat, in three sheets, incorporating the field notes of the dependent resurvey of a portion of the township boundaries and of the sub-divisional lines. The survey of the sub-division of sections 2, 4, 6, 7, 8, 9, 11, 13, 14, and 17; and the survey of the ordinary high water mark of Holy Lake in section 4, Township 64 North, Range 12 West, Fourth Principal Meridian, in the State of Minnesota; approved September 29, 2016.

A person or party who wishes to protest the above survey must file a written notice 30 calendar days from the date of this publication at the address listed in the ADDRESSES section of this notice. A statement of reasons for a protest may be filed with the notice of protest and must be filed within 30 days after the protest is filed. If a protest against the survey is received prior to the date of official filing, the filing will be stayed pending consideration of the protest. A plat will not be officially filed until the day after all protests have been dismissed or otherwise resolved.

Before including your address, phone number, email address, or other personal identifying information in your comment, please be aware that your entire protest, including your personal identifying information may be made publicly available at any time. While you can ask us in your comment to withhold your personal identifying information from public review, we cannot guarantee that we will be able to do so.

A copy of the described plat will be placed in the open files, and available to the public as a matter of information.

Authority: 43 CFR 1831.1.

Dominica Van Koten,
Chief Cadastral Surveyor.

[FR Doc. 2018-00582 Filed 1-12-18; 8:45 am]

BILLING CODE 4310-GJ-P